DEPARTMENT OF COMMERCE

International Trade Administration

[A-570-053]

Certain Aluminum Foil From the People's Republic of China: Preliminary Results of Antidumping Duty Administrative Review; 2022-2023

AGENCY: Enforcement and Compliance, International Trade Administration, Department of Commerce.

SUMMARY: The U.S. Department of Commerce (Commerce) preliminarily determines that certain producers and/or exporters made sales of certain aluminum foil (aluminum foil) at below normal value (NV) during the period of review (POR), April 1, 2023, through March 31, 2024. Interested parties are invited to comment on these preliminary results of this review.

DATES: Applicable August 8, 2025.

FOR FURTHER INFORMATION CONTACT: Jacob Waddell, AD/CVD Operations, Office VI, Enforcement and Compliance, International Trade Administration, U.S. Department of Commerce, 1401 Constitution Avenue NW, Washington, DC 20230; telephone: (202) 482-1369.

SUPPLEMENTARY INFORMATION:

Background

On April 19, 2018, Commerce published the sales at less-than-fair-value order on aluminum foil from China.¹ On April 1, 2025, Commerce published a notice of opportunity to request an administrative review of the Order, pursuant to section 751(a)(1) of the Tariff Act of 1930, as amended (the Act).² On June 12, 2024, in response to review requests from interested parties, Commerce published the notice of initiation of an administrative review of the Order covering 24 companies.³ On July 22, 2024, and December 9, 2024, Commerce tolled certain deadlines in this administrative proceeding by seven days and 90 days, respectively.⁴ Between February 27, and July 16, 2025, Commerce extended the deadline for the preliminary results of this review until August 5, 2025.⁵

¹ See Certain Aluminum Foil from the People's Republic of China: Amended Final Determination of Sales at Less Than Fair Value and Antidumping Duty Order, 83 FR 17362 (April 19, 2018) (Order).

² See Antidumping or Countervailing Duty Order, Finding, or suspended Investigation; Opportunity to Request Administrative Review and Join Annual Inquiry Service List, 89 FR 15157 (March 1, 2024).

³ See Initiation of Antidumping and Countervailing Duty Administrative Reviews, 89 FR 49848 (June 12, 2024); see also Initiation of Antidumping and Countervailing Duty Administrative Reviews, 88 FR 51271 (August 3, 2023) which includes a previously omitted company, “Manakin Industries, LLC,” as a respondent in this administrative review.

⁴ See Memorandum, “Tolling of Certain Deadlines for Antidumping and Countervailing Duty Proceedings,” dated July 22, 2024; see also “Tolling of Deadlines for Antidumping and Countervailing Duty Proceedings,” dated December 9, 2024.

⁵ See Memorandum, “Extension of Deadline for Preliminary Results of Antidumping Duty Administrative Review,” dated February 27, 2025; “Extension of Deadline for Preliminary Results of Antidumping Duty Administrative Review,” dated May 20, 2025; “Extension of Deadline for Preliminary Results of Antidumping Duty Administrative Review,” dated July 16, 2025.

For a summary of the events that occurred since the initiation of this review and the analysis for these preliminary results, see the Preliminary Decision Memorandum.⁶ A list of topics included in the Preliminary Decision memorandum is provided as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the 2023-2024 Administrative Review of the Antidumping Duty Order on Certain Aluminum Foil from the People's Republic of China,” dated concurrently with, and hereby adopted by, this notice (Preliminary Decision Memorandum).

Scope of the Order

The merchandise subject to the Order is aluminum foil from China. For a complete description of the scope of the Order, see the Preliminary Decision Memorandum.

Preliminary Affiliation and Single Entity Determination

Consistent with Commerce's treatment of: (1) Jiangsu Dingsheng New Materials Joint-Stock Co., Ltd.; (2) Dingsheng Aluminium Industries (Hong Kong) Trading Co., Limited (Dingsheng Aluminium); (3) Hangzhou Dingsheng Import&Export Co., Ltd. (Hangzhou Dingsheng); (4) Hangzhou Five Star Aluminium Co., Ltd (Hangzhou Five Star); (5) Hangzhou Teemful Aluminium Co., Ltd. (Hangzhou Teamful); (6) Inner Mongolia Liansheng New Energy Material Co. (Inner Mongolia Liansheng); and (7) Inner Mongolia Xinxing New Energy Material Co., Ltd. (Inner Mongolia Xinxing) in a prior segment of this proceeding,⁷ we have continued to find that these companies are affiliated entities, pursuant to sections 771(33)(E) and (F) of the Act, and that they should be treated as a single entity pursuant to 19 CFR 351.401 (f)(1)-(2). In this review, we are additionally preliminarily finding: Dingheng New Materials Co., Ltd. (Dingheng); and Thai Ding Li New Materials Co., Ltd. (Thai Ding Li) affiliated with the companies identified above, pursuant to sections 771(33)(E) and (F) of the Act, and that they should be treated as part of the single entity, pursuant to 19 CFR 351.401(f)(1)-(2). For more information, see Preliminary Decision Memorandum.

⁷ See Antidumping Duty Investigation of Certain Aluminum Foil from the People's Republic of China: Affirmative Preliminary Determination of Sales at Less-than-Fair-Value and Postponement of Final Determination, 82 FR 50858 (November 2, 2017) (Preliminary Determination), and accompanying Preliminary Decision Memorandum at 16-18, unchanged in Certain Aluminum Foil from China: Final Determination of Sales at Less than Fair Value, 83 FR 9282 (March 5, 2018) (Final Determination) and Certain Aluminum Foil from the People's Republic of China: Amended Final Determination of Sales at Less-than-Fair-Value, 83 FR 17362 (April 19, 2018) (Amended Final Determination). We find that record evidence supports continuing to treat these companies as a collapsed entity in this administrative review. See Memorandum, “Preliminary Affiliation and Collapsing Memorandum for Dingheng New Materials Co., Ltd.,” dated concurrently with this notice.

Consistent with Commerce's treatment of: (1) Jiangsu Zhongji Lamination Materials Co., Ltd. (Zhongji); (2) Jiangsu Huafeng Aluminium Industry Co., Ltd. (Jiangsu Huafeng); and (3) Jiangsu Zhongji Lamination Materials Co., (HK) Limited (Zhongji HK) in a prior segment of this proceeding,⁸ we have continued to find that these companies are affiliated entities, pursuant to sections 771(33)(E) and (F) of the Act, and that they should be treated as a single entity, pursuant to 19 CFR 351.401(f)(1)-(2). In this review, we are additionally preliminarily finding that: (1) Anhui Zhongji Battery Foil Sci&Tech Co., Ltd. (Anhui Zhongji); (2) Anhui Maximum Aluminum Co., Ltd. (Anhui Maximum); and (3) Sichuan Wanshun Zhongji Aluminium Industry Co., Ltd. (Sichuan Wanshun) are affiliated with the companies identified above, pursuant to sections 771(33)(E) and (F) of the Act, and that they should be treated as a single entity, pursuant to 19 CFR 351.401(f)(1)-(2). For additional information, see the Preliminary Decision Memorandum.

⁸ See Preliminary Determination PDM at 16-18, unchanged in Final Determination and Amended Final Determination. We find that record evidence in this administrative review supports continuing to treat these companies as a single entity. See Memorandum, “Preliminary Affiliation and Collapsing Memorandum for Jiangsu Zhongji Lamination Materials, Co., Ltd.,” dated concurrently with this notice (Zhongji's Preliminary Affiliation Memorandum).

Separate Rates

In the Initiation Notice, we informed parties that all firms for which a non-market economy review was initiated that wished to qualify for separate rate status must complete, as appropriate, either a separate rate application (SRA) or a separate rate certification (SRC).⁹ Commerce preliminarily determines that: (1) Dingheng; ¹⁰ (2) Zhongji; ¹¹ (3) Dong-IL Aluminium Co., Ltd. (Dong-IL); (4) Eastern Valley Co., Ltd. (Eastern Valley); (5) Korea Aluminium Co., Ltd. (Korea Aluminium); (6) Lotte Aluminium Co., Ltd. (Lotte); and (7) Xiamen Xiashun Aluminum Foil Co., Ltd. (Xiamen Xiashun) are eligible to receive a separate rate.¹²

⁹ See Initiation Notice, 89 FR 49845.

¹⁰ Because Commerce preliminarily determines that Dingheng should be treated as a single entity with: (1) Dingsheng, (2) Hangzhou Dingsheng, (3) Dingsheng Aluminium, (4) Hangzhou Teemful, (5) Hangzhou Five Star, (6) Inner Mongolia Liansheng, (7) Inner Mongolia Xinxing/Dingheng New Materials Co., Ltd., and (8) Thai Ding Li, these companies are all eligible for the same separate rate. See Preliminary Decision Memorandum.

¹¹ Commerce preliminarily determines that: (1) Zhongji; (2) Zhongji HK; (3) Jiangsu Huafeng; (4) Anhui Zhongji; (5) Anhui Maximum; and (6) Sichuan Wanshun are a single entity and are thus eligible for the same separate rate. See Preliminary Decision Memorandum.

¹² See Preliminary Decision Memorandum.

Calculation of the Separate Rate

The statute and Commerce's regulations do not address what dumping margin to apply to respondents that are not selected for individual examination in an administrative review pursuant to section 777A(c)(2) of the Act. Generally, Commerce looks to section 735(c)(5) of the Act, which provides instructions for calculating the all-others rate in an investigation, for guidance when calculating the dumping margin for respondents that are not individually examined in an administrative review. Under section 735(c)(5)(A) of the Act, the all-others rate is normally “equal to the weighted average of the estimated weighted average dumping margins established for exporters and producers individually investigated, excluding any zero and de minimis dumping margins, and any dumping margins determined entirely {on the basis of facts available}.”

In these preliminary results, we calculated rates for Dingsheng and Zhongji that are not zero, de minimis, or based entirely on facts available. Therefore, the rates of Dingsheng and Zhongji are applicable to companies not selected for individual examination but eligible for a separate rate. However, because there are only two relevant weighted-average dumping margins for these preliminary results, using a weighted average of these two rates risks disclosure of business proprietary information (BPI). We therefore compared a weighted-average of the rates calculated for Dingsheng and Zhongji using publicly ranged quantity and value data with BPI data as well as a simple average of the respondents' calculated rates.¹³ For the reasons explained in the Preliminary Decision Memorandum, we are assigning a 26.94 percent rate to the non-individually examined companies which qualify for a separate rate in this review, consistent with Commerce's practice and section 735(c)(5)(A) of the Act.

¹³ Id.; see also Appendix I.

China-Wide Entity

In the Initiation Notice, Commerce stated exporters and producers who submit an SRA or SRC and are subsequently chosen as mandatory respondents will no longer be eligible for a separate rate if they do not respond to all parts of the questionnaire.¹⁴ Commerce initially chose Shanghai Shenyan Packaging Co., Ltd. (Shanghai Shenyan) as a mandatory respondent,¹⁵ but it withdrew from participation and did not respond to all parts of the questionnaire ¹⁶ Therefore, we preliminarily find it is ineligible for a separate rate and is preliminarily considered to be part of the China-wide entity.¹⁷

¹⁴ See Initiation Notice, 89 FR at 49846.

¹⁵ See Memorandum, “Respondent Selection,” dated August 1, 2024.

¹⁶ See Shanghai Shenyan's Letters, “Notice of Intent Not to Participate,” dated August 27, 2024; and “Withdrawal of Request for Administrative Review,” dated August 27, 2024.

¹⁷ See Appendix I.

Commerce also preliminarily determines that, after failing to submit an SRA or SRC, (1) Dongwon Systems Corp. (Dongwon); (2) Gränges Aluminum (Shanghai) Co., Ltd. (Gränges); (3) Sama Aluminium Co Ltd, (Sama); and (4) Shanghai Shenhuo Aluminium Foil Co., Ltd. (Shanghai Shenhuo) are not eligible for a separate rate and are, therefore, considered part of the China-wide entity.¹⁸

¹⁸ Id.

Under Commerce's policy regarding the conditional review of the China-wide entity, the China-wide entity will not be under review unless a party specifically requests, or Commerce self-initiates, a review of the entity.¹⁹ Because no party requested a review of the China-wide entity in this review, the entity is not under review, and the entity's rate (i.e., 105.80 percent) is not subject to change.²⁰

¹⁹ See Antidumping Proceedings: Announcement of Change in Department Practice for Respondent Selection in Antidumping Duty Proceedings and Conditional Review of the Nonmarket Economy Entity in NME Antidumping Duty Proceedings, 78 FR 65963 (November 4, 2013).

²⁰ See Order.

Preliminary Negative Determination of No Shipments

Anhui Zhongji ²¹ and Jiangsu Huafeng ²² reported no shipments of subject merchandise to the United States during the POR. In the underlying investigation, Commerce collapsed Jiangsu Huafeng with Zhongji, and Zhongji HK ²³ one of which had entries during the POR. Furthermore, Zhongji reported that Anhui Zhongji is an affiliated company involved in the production of subject merchandise.²⁴ Because a company within the Anhui Zhongji and Jiangsu Huafeng “single entity” had shipments that entered during the POR, we consider all companies within the Anhui Zhongji and Jiangsu Huafeng “single entity” to have made shipments that entered during the POR. Accordingly, we are not making a preliminary determination of no shipments with respect to Anhui Zhongji or Jiangsu Huafeng.

²¹ See Anhui Zhongji's Letter, “No-Shipment Certification of Anhui Zhongji Battery Foil Sci&Tech Co., Ltd.,” dated July 12, 2024.

²² See Jiangsu Huafeng's Letter, “No-Shipment Certification of Jiangsu Huafeng Aluminium Industry Co., Ltd.,” dated July 12, 2024.

²³ See Preliminary Determination and Final Determination.

²⁴ See Zhongji's Preliminary Affiliation Memorandum.

Methodology

Commerce is conducting this administrative review in accordance with section 751(a)(1)(B) of the Act. We calculated export prices in accordance with section 772 of the Act.

Because Commerce has determined that China is a non-market economy country ²⁵ within the meaning of section 771(18) of the Act, Commerce calculated normal value in accordance with section 773(c) of the Act. For a full description of the methodology underlying the preliminary results of this review, see the Preliminary Decision Memorandum.

²⁵ See Preliminary Determination, unchanged in Final Determination.

Preliminary Results of Review

Commerce preliminarily determines that the following weighted-average dumping margins exist for the period April 1, 2023, through March 31, 2024:

Exporter | Weighted-average dumping margin (percent)
Jiangsu Dingsheng New Materials Joint-Stock Co., Ltd./Hangzhou Dingsheng Import&Export Co., Ltd./Dingsheng Aluminium Industries (Hong Kong) Trading Co., Limited/Hangzhou Teemful Aluminium Co., Ltd./Hangzhou Five Star Aluminium Co., Ltd./Inner Mongolia Liansheng New Energy Material Co., Ltd./Inner Mongolia Xinxing New Energy Material Co., Ltd./Dingheng New Materials Co., Ltd./Thai Ding Li New Materials Co., Ltd | 24.51
Jiangsu Zhongji Lamination Materials Co., Ltd./Jiangsu Zhongji Lamination Materials Co., (HK) Limited/Jiangsu Huafeng Aluminum Industry Co., Ltd./Anhui Zhongji Battery Foil Sci&Tech Co., Ltd./Anhui Maximum Aluminum Co., Ltd./Sichuan Wanshun Zhongji Aluminium Industry Co., Ltd | 30.17
Non-Examined Companies Receiving a Separate Rate ²⁶
Dong-IL Aluminium Co., Ltd | 26.94
Eastern Valley Co., Ltd | 26.94
Korea Aluminium Co., Ltd | 26.94
Lotte Aluminium Co., Ltd | 26.94
Xiamen Xiashun Aluminum Foil Co., Ltd | 26.94

Disclosure

²⁶ See Appendix I.

Commerce intends to disclose the calculations performed for these preliminary results to interested parties within five days after public announcement, or if there is no public announcement, within five days of the date of publication of this notice in the Federal Register.

Public Comment

Case briefs or other written comments may be submitted to the Assistant Secretary for Enforcement and Compliance. Pursuant to 19 CFR 351.309(c)(1)(ii), we have modified the deadline for interested parties to submit case briefs to Commerce to no later than 21 days after the date of the publication of this notice.²⁷ Rebuttal briefs, limited to issues raised in the case briefs, may be filed not later than five days after the date for filing case briefs.²⁸ Parties who submit case briefs or rebuttal briefs in this proceeding are encouraged to submit with each argument: (1) a statement of the issue; and (2) a table of authorities.²⁹ All briefs must be filed electronically using ACCESS. An electronically filed document must be received successfully in its entirety in ACCESS by 5:00 p.m. Eastern Time on the established deadline.

²⁷ See 19 CFR 351.309.

²⁸ See 19 CFR 351.309(d); see also Administrative Protective Order, Service, and Other Procedures in Antidumping and Countervailing Duty Proceedings, 88 FR 67069, 67077 (September 29, 2023) (APO and Service Final Rule).

²⁹ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.³⁰ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).³¹

³⁰ We use the term “issue” here to describe an argument that Commerce would normally address in a comment of the Issues and Decision Memorandum.

³¹ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined.

Commerce intends to issue the final results of this administrative review, including the results of its analysis raised in any written briefs, not later than 120 days after the publication date of this notice, pursuant to section 751(a)(3)(A) of the Act, unless otherwise extended.

Assessment Rates

In accordance with section 751(a)(2)(C) of the Act, upon issuance of the final results, Commerce will determine, and CBP shall assess, antidumping duties on all appropriate entries covered by this review.³² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

³² See 19 CFR 351.212(b)(1).

For Dingheng and Zhongji, Commerce intends to calculate importer or customer-specific assessment rates, in accordance with 19 CFR 351.212(b)(1).³³ Where the respondent reported reliable entered values, Commerce intends to calculate importer or customer-specific ad valorem assessment rates by aggregating the amount of dumping calculated for all U.S. sales to the importer or customer and dividing this amount by the total entered value of the merchandise sold to the importer or customer.³⁴ Where the respondent did not report entered values, Commerce will calculate importer or customer-specific assessment rates by dividing the amount of dumping for reviewed sales to the importer or customer by the total quantity of those sales. Commerce will calculate an estimated ad valorem importer or customer-specific assessment rate to determine whether the per-unit assessment rate is de minimis; however, Commerce will use the per-unit assessment rate where entered values were not reported.³⁵ Where an importer or customer-specific ad valorem assessment rate is not zero or de minimis, Commerce will instruct CBP to collect the appropriate duties at the time of liquidation. Where either the respondent's weighted average dumping margin is zero or de minimis, or an importer or customer-specific ad valorem assessment rate is zero or de minimis, Commerce will instruct CBP to liquidate appropriate entries without regard to antidumping duties.³⁶

³³ See Antidumping Proceedings: Calculation of the Weighted Average Dumping Margin and Assessment Rate in Certain Antidumping Proceedings: Final Modification, 77FR 8101 (February 14, 2012) (Final Modification).

³⁴ See 19 CFR 351.212(b)(1).

³⁵ Id.

³⁶ See Final Modification, 77 FR at 8103.

Commerce will base the assessment rate of any company not selected for individual examination that qualifies for a separate rate on the weighted-average dumping margin that it calculates for Dingheng and Zhongji in the final results of this review.³⁷

³⁷ See Non-Market Economy Antidumping Proceedings: Assessment of Antidumping Duties, 76 FR 65694, 65694-95 (October 24, 2011).

Pursuant to Commerce's refinement to its practice, for sales that were not reported in the U.S. sales database submitted by an exporter individually examined during this review, Commerce will instruct CBP to liquidate the entry of such merchandise at the dumping margin for the China-wide entity.³⁸ Additionally, where Commerce determines that an exporter under review had no shipments of subject merchandise to the United States during the POR, any suspended entries of subject merchandise that entered under that exporter's CBP case number during the POR will be liquidated at the dumping margin for the China-wide entity.

³⁸ See Antidumping Proceedings: Calculation of the Weighted-Average Dumping Margin and Assessment Rate in Certain Antidumping Duty Proceedings; Final Modification, 77 FR 8101 (February 14, 2012).

For the final results, if we continue to treat: (1) Dongwon; (2) Gränges; (3) Sama; (4) Shanghai Shenyan; and (5) Shanghai Shenhuo as part of the China-wide entity, we will instruct CBP to apply an ad valorem assessment rate of 105.80 percent to all entries of subject merchandise during the POR which were exported by these companies. The final results of this review shall be the basis for the assessment of antidumping duties on entries of merchandise covered by the final results of this review and for future deposits of estimated duties, where applicable.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of subject merchandise entered, or withdrawn from warehouse, for consumption on or after the publication date of the final results of this administrative review, as provided by section 751(a)(2)(C) of the Act: (1) the cash deposit rate for the exporters listed above will be that established in the final results of this review, except if the rate is less than 0.50 percent and, therefore, de minimis within the meaning of 19 CFR 351.106(c)(1), in which case the cash deposit rate will be zero; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter.³⁹ These deposit requirements, when imposed, shall remain in effect until further notice.

³⁹ See Order.

Final Results of Review

Unless the deadline is extended, Commerce intends to issue the final results of this administrative review, including the results of its analysis of issues raised by interested parties in the written comments, within 120 after the date of publication of these preliminary results in the Federal Register.⁴⁰

⁴⁰ See section 751(a)(3)(A) of the Act; and 19 CFR 351.213(h).

Notification to Importers

This notice serves as a reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, and 351.221(b)(4).

Dated: August 5, 2025.
Christopher Abbott,
Deputy Assistant Secretary for Policy and Negotiations, performing the non-exclusive functions and duties of the Assistant Secretary for Enforcement and Compliance.

Appendix I

Non-Selected Companies Receiving a Separate Rate

1. Dong-IL Aluminium Co., Ltd.

2. Eastern Valley Co., Ltd.

3. Korea Aluminium Co., Ltd.

4. Lotte Aluminium Co., Ltd.

5. Xiamen Xiashun Aluminum Foil Co., Ltd.

Companies Determined To Be Part of the China-Wide Entity

1. Dongwon Systems Corp.

2. Gränges Aluminum (Shanghai) Co., Ltd.

3. Sama Aluminium Co Ltd.

4. Shanghai Shenhuo Aluminium Foil Co., Ltd.

5. Shanghai Shenyan Packaging Co., Ltd.

Appendix II

List of Topics Discussed in the Preliminary Decision Memorandum

I. Summary

II. Background

III. Scope of the Order

IV. Discussion of the Methodology

V. Adjustments to Cash Deposit Rates for Export Subsidies

VI. Currency Conversion

VII. Recommendation

[FR Doc. 2025-15138 Filed 8-7-25; 8:45 am]

BILLING CODE 3510-DS-P